DEPARTMENT OF THE INTERIOR

Bureau of Land Management

[LLMTL07000 L12320000.AL0000.LVRDMT010000.13X MO #4500076731]

Notice of Intent To Collect Fees on the Upper Missouri National Wild and Scenic River in Blaine, Chouteau, Fergus, and Phillips Counties, MT

AGENCY: Bureau of Land Management, Interior.

ACTION: Notice of intent.

SUMMARY: Pursuant to applicable provisions of the Federal Lands Recreation Enhancement Act, the Bureau of Land Management (BLM) Central Montana District, Upper Missouri River Breaks National Monument (UMRBNM), Lewistown Field Office is proposing to begin collecting fees for overnight camping at Coal Banks Landing Recreation Area, Judith Landing Recreation Area and for day and overnight trips (floats) on the Upper Missouri River from Coal Banks Landing Recreation Area (River Mile 41.5) to James Kipp Recreation Area (River Mile 149). The Upper Missouri River from Fort Benton, Montana (River Mile 0) to the James Kipp Recreation Area (River Mile 149) was designated as a National Wild and Scenic River on October 12, 1976, and subsequently included within the Upper Missouri River Breaks National Monument (UMRBNM) designation on January 17, 2001. The UMRBNM Record of Decision and Approved Resource Management Plan designated the Upper Missouri National Wild and Scenic River (UMNWSR) as a Special Area in December 2008.

DATES: To ensure that comments will be considered, the BLM must receive written comments on the proposal to collect fees by September 21, 2015. Effective 6 months after publication of this notice, the BLM's Central Montana District, UMRBNM will initiate fee collection at Coal Banks Landing, Judith Landing, and on the Upper Missouri River between Coal Banks Landing and James Kipp Recreation Area unless the BLM publishes a Federal Register notice to the contrary.

ADDRESSES: You may submit comments on this fee collection proposal by any of the following methods:

• Email: blm_upper_missouri_river_breaks_nm@blm.gov

• Fax: 406-622-4040

• Mail: 920 NE Main, Lewistown, MT 59457

Copies of the fee proposal are available at the BLM Central Montana District Office, Fort Benton River Management Station, 701 7th St., P.O. Box 1389, Fort Benton, MT 59442 or on line at: http://www.blm.gov/mt/st/en/fo/umrbnm.html.

FOR FURTHER INFORMATION CONTACT: Mark Schaefer, Supervisory Outdoor Recreation Planner, telephone: 406-622-4015; address: 920 NE Main, Lewistown, MT 59457; email: mrschaef@blm.gov. Persons who use a telecommunications device for the deaf (TDD) may call the Federal Information Relay Service (FIRS) at 1-800-877-8339 to contact Mr. Schaefer during normal business hours. FIRS is available 24 hours a day, 7 days a week, to leave a message or question for Mr. Schaefer. You will receive a reply during normal business hours.

SUPPLEMENTARY INFORMATION: Pursuant to the Federal Lands Recreation Enhancement Act (REA)(16 U.S.C. 6801 et seq.), the Secretary may establish, modify, charge and collect recreation fees at Federal recreation lands and waters. The Coal Banks Landing to James Kipp Recreation Area section of the Upper Missouri River offers outstanding opportunities for overnight and day-use floating in canoes, kayaks, rafts or motorized watercraft. The special area also provides access to high quality outdoor recreation opportunities (primarily camping, sightseeing, hiking, fishing, and hunting). Maintaining a natural-appearing recreation setting, a quality social setting, and enhancing the visitor experience on the river while protecting natural resources requires substantial Federal investment. The BLM is committed to finding the proper balance between public use and the protection of resources.

The new fees include a $10 overnight camping fee at the Coal Banks Landing Recreation Area and a $5 overnight camping fee at the Judith Landing Recreation Area. A Special Area Permit fee of $5 per watercraft for day use and $4 per person per day for overnight use will also be implemented between Coal Banks Landing (River Mile 41.5) and James Kipp Recreation Area (River Mile 149).

Fee amounts will be posted on the BLM Central Montana District, UMRBNM Web site, at the Central Montana District Office, and Fort Benton River Management Station. Copies of the Fee Business Plan are available at the Central Montana District, UMRBNM Headquarters, the Fort Benton River Management Station, and the Montana State Office.

The BLM may collect fees in conjunction with a Special Recreation Permit (SRP) as required to manage visitor use, protect natural resources, and achieve the goals of the UMRBNM Resource Management Plan (RMP). The special area qualifies as a site where visitors can be charged a fee in conjunction with an SRP authorized under Section 803(h) of the REA, 16 U.S.C. 6802(h). In accordance with the REA and implementing regulations at 43 CFR part 2930, visitors would obtain an individual SRP to boat within the Coal Banks Landing (River Mile 41.5) to James Kipp Recreation Area (River Mile 149) section of the Upper Missouri River. All fees collected would be used for expenses within the river corridor.

The BLM's goal for the Upper Missouri River Fee program is to ensure that funding is available to protect resources and outstanding remarkable recreation values, maintain the area in a natural-appearing condition consistent with the recreation setting established by the RMP, and enhance visitor services and safety, including construction of additional campground exclosures at remote developed boat camps to mitigate conflicts between recreational users and livestock. In 1997, the UMNWSR was established as a fee area under the Recreational Fee Demonstration Program with only one campground (James Kipp Recreation Area) designated as a fee site. The James Kipp Recreation Area Business Plan was developed and amended in 2007 when fees at this location were increased. In December 2008, the UMRBNM record of Decision and Resource Management Plan was published which outlines the operational goals of recreation services and the area. The plan emphasizes protection and restoration of the natural resources while still providing for resource use and enjoyment. This 2008 Decision allows for recreation opportunities, the issuing of use permits, and the charging of expanded amenity fees for overnight camping in Level 1 sites and an individual special recreation permit for boating the UMNWSR. The establishment of a permit process and the collection of user fees were also addressed in the UMNWSR Business Plan, prepared pursuant to the REA and BLM recreation fee program policy. The Business Plan establishes the rationale for charging recreation fees. In accordance with BLM recreation fee program policy, the Business Plan explains the fee collection process and outlines how the fees will be used on the UMNWSR. BLM has notified and involved the public at each stage of the planning process, including the proposal to collect fees. The business plan provides management direction for the UMRBNM to include public enjoyment of these public lands and specifically comments on commercial use, fee collection, camping, boating, hunting, fishing and myriad other outdoor recreational opportunities. The current business plan for the UMRBNM/UMNWSR River Fees was completed in 2014 and encompasses the James Kipp Recreation Area business plan. The business plan addresses recreation opportunities, the issuance of SRP's and the charging of fees on a per watercraft and per person, per launch basis. The UMRBNM/UMNWSR River Fees plan, prepared pursuant to the REA and BLM recreation fee policy, also addresses the establishment of a permit process and the collection of user fees. The business plan articulates the rationale for charging recreation fees. In accordance with the BLM recreation fee program policy, the plan explains the fee collection process and outlines how the fees would be used on the UMRBNM/UMNWSR. The fee rates have been reviewed by the Central Montana Resource Advisory Council (RAC) and unanimously approved. Future adjustments in the fee amount would be made in accordance with the plan and through consultation with the Central Montana RAC and the public prior to a fee increase. Fee amounts will be posted onsite and online at the UMRBNM Web site at: http://www.blm.gov/mt/st/en/fo/umrbnm.html. Copies of the plan will be available at the BLM Central Montana District Office and online at the UMRBNM Web site.

Before including your address, phone number, email address, or other personal identifying information in your comment, you should be aware that your entire comment—including your personal identifying information—may be made publicly available at any time. While you can ask us in your comment to withhold your personal identifying information from public review, we cannot guarantee that we will be able to do so.

Authority: 16 U.S.C. 6803(b) and 43 CFR 2932.13.

Michael Kania,
Upper Missouri River Breaks National Monument Manager.

[FR Doc. 2015-20713 Filed 8-20-15; 8:45 am]

BILLING CODE 4310-DN-P